DEPARTMENT OF COMMERCE

International Trade Administration

[A-570-827]

Notice of Final Results of Antidumping Duty Changed Circumstances Review, and Determination To Revoke Order in Part: Certain Cased Pencils From the People's Republic of China

AGENCY: Import Administration, International Trade Administration, Department of Commerce.

SUMMARY: On August 30, 2005, the Department of Commerce (the Department) published a notice of initiation of an antidumping duty changed circumstances review of the antidumping duty order on certain cased pencils (pencils) from the People's Republic of China (PRC). See Notice of Initiation of Antidumping Duty Changed Circumstances Review: Certain Cased Pencils from the People's Republic of China, 70 FR 51336 (August 30, 2005) (Initiation). The Department published the preliminary results of this review on January 3, 2006. See Notice of Preliminary Results of Antidumping Duty Changed Circumstances Review and Intent to Revoke Order in Part: Certain Cased Pencils from the People's Republic of China, 71 FR 92 (January 3, 2006) (Preliminary Results). We are now revoking this order, in part, with respect to pencils meeting the specifications described below, based on the fact that domestic interested parties ¹ have expressed no objection to exclusion of these pencils from the order.

¹ Sanford Corporation, Musgrave Pencil Company, RoseMoon, Inc., and General Pencil Company, domestic manufacturers of cased pencils (collectively, the domestic interested parties).

DATES: Effective Date: March 15, 2006.

FOR FURTHER INFORMATION CONTACT: Paul Stolz or Charles Riggle, AD/CVD Operations, Office 8, Import Administration, International Trade Administration, U.S. Department of Commerce, 14th Street and Constitution Avenue, NW., Washington, DC 20230; telephone (202) 482-4474 and (202) 482-0650, respectively.

SUPPLEMENTARY INFORMATION:

Background

On April 14, 2005, M.A. Notch Corporation (Notch), a U.S. importer, filed a request asking the Department to revoke the antidumping duty order (AD order) on certain cased pencils from the PRC with respect to a large novelty pencil. See Notch's letter to the Department, dated April 5, 2005 (Notch Request Letter). Specifically, Notch requests that the Department revoke the AD order with respect to imports of certain cased pencils meeting the following description: novelty jumbo pencil that is octagonal in shape, approximately ten inches long, one inch in diameter, and three-and-one eighth inches in circumference, composed of turned wood encasing one-and-one half inches of sharpened lead on one end and a rubber eraser on the other end. See Notch Request Letter at 1. On May 6, 2005, the domestic interested parties submitted a letter to the Department stating that they “ * * * do not object to exclusion of items meeting the description set forth in the quoted description” (as stated above). On August 22, 2005, the Department initiated a changed circumstances review. See Notice of Initiation of Antidumping Duty Changed Circumstances Review: Certain Cased Pencils from the People's Republic of China, 70 FR 51336 (August 30, 2005).

On August 25, 2005, we informed all interested parties that comments on the initiation of the changed circumstances review and/or comments with respect to whether the domestic interested parties account for substantially all of the production of the domestic like product, were due 21 days subsequent to publication of the initiation notice in the Federal Register. No interested party submitted comments.

As noted above, on January 3, 2006, the Department published the Preliminary Results in the Federal Register and gave interested parties an additional opportunity to comment. We received no comments from interested parties.

New Scope Based on This Changed Circumstances Review

Imports covered by this order are shipments of certain cased pencils of any shape or dimension (except as noted below) which are writing and/or drawing instruments that feature cores of graphite or other materials, encased in wood and/or man-made materials, whether or not decorated and whether or not tipped (e.g., with erasers, etc.) in any fashion, and either sharpened or unsharpened. The pencils subject to the order are currently classifiable under subheading 9609.10.00 of the Harmonized Tariff Schedule of the United States (HTSUS). Specifically excluded from the scope of the order are mechanical pencils, cosmetic pencils, pens, non-cased crayons (wax), pastels, charcoals, chalks, and pencils produced under U.S. patent number 6,217,242, from paper infused with scents by the means covered in the above-referenced patent, thereby having odors distinct from those that may emanate from pencils lacking the scent infusion. Also excluded from the scope of the order are pencils with all of the following physical characteristics: (1) Length: 13.5 or more inches; (2) sheath diameter: not less than one-and-one quarter inches at any point (before sharpening); and (3) core length: not more than 15 percent of the length of the pencil.

In addition, pencils with all of the following physical characteristics are excluded from the scope of the order: novelty jumbo pencils that are octagonal in shape, approximately ten inches long, one inch in diameter before sharpening, and three-and-one eighth inches in circumference, composed of turned wood encasing one-and-one half inches of sharpened lead on one end and a rubber eraser on the other end.

Although the HTSUS subheading is provided for convenience and customs purposes, our written description of the scope of the order is dispositive.

Final Results of Review; Partial Revocation of Antidumping Duty Order

The affirmative statement by interested parties that they have no objection to exclusion of pencils meeting the specifications described above from the order constitutes changed circumstances sufficient to warrant partial revocation of this order. No party commented on the preliminary results or claimed that the domestic interested parties mentioned above do not account for substantially all of the production of the domestic like product to which the order pertains. Therefore, the Department is revoking, in part, the order on pencils from the PRC with regard to the pencils meeting the specifications described above, in accordance with sections 751(b), 751(d)(1), and 782(h)(2) of the Tariff Act of 1930, as amended (the Act), and 19 CFR 351.222(g)(1).

The Department will instruct U.S. Customs and Border Protection (CBP) to liquidate, without regard to antidumping duties, all unliquidated entries of pencils meeting the specifications described above. The Department will instruct CBP to refund with interest any estimated antidumping duties collected with respect to unliquidated entries of pencils meeting the specifications entered, or withdrawn from warehouse, for consumption prior to the effective date of this notice. In addition, the Department will terminate the suspension of liquidation for the merchandise covered by this partial revocation, effective on the date of publication of this notice.

This notice serves as a reminder to parties subject to administrative protective order (APO) of their responsibility concerning the disposition of proprietary information disclosed under APO in accordance with 19 CFR 351.306. Timely written notification of the return/destruction of APO materials or conversion to judicial protective order is hereby requested. See 19 CFR 351.305. Failure to comply with the regulations and terms of an APO is a sanctionable violation.

This changed circumstances administrative review, partial revocation of the antidumping duty order and notice are in accordance with sections 751(b), 751(d)(1), 777(i) and 782(h)(2) of the Act and 19 CFR 351.216(e) and 19 CFR 351.222(g) of the Department's regulations.

Dated: March 9, 2006.
David M. Spooner,
Assistant Secretary for Import Administration.

[FR Doc. E6-3746 Filed 3-14-06; 8:45 am]

BILLING CODE 3510-DS-P